DEPARTMENT OF COMMERCE

International Trade Administration

19 CFR Part 356

[Docket No. 231127-0278]

RIN 0625-AB20

Procedures and Rules for Article 10.12 of the United States-Mexico-Canada Agreement

AGENCY: Enforcement and Compliance, International Trade Administration, Department of Commerce.

ACTION: Final rule; correction.

SUMMARY: The Department of Commerce (Commerce) is amending a final rule that appeared in the Federal Register on January 31, 2024. This document corrects a spelling error to update and make final an interim final rule that amended its regulations pertaining to the procedures and rules related to Article 1904 of the North American Free Trade Agreement (NAFTA) with appropriate references to the United States-Mexico-Canada Agreement (USMCA), which went into effect on July 1, 2020. Article 10.12 of the USMCA, like NAFTA Article 1904, provides a dispute settlement mechanism for purposes of reviewing antidumping and countervailing duty determinations issued by the United States, Canada, and Mexico. Commerce is amending its regulations to replace references to Article 1904 of NAFTA with references to Article 10.12 of the USMCA; to update outdated cross-references to Commerce's antidumping and countervailing duty regulations; update outdated notice, filing, service, and protective order procedures; and adopt other minor corrections and updates.

DATES: The final rule is effective on March 1, 2024.

FOR FURTHER INFORMATION CONTACT: Nikki Kalbing, Assistant Chief Counsel, at (202) 482-4343, Spencer Neff, Attorney, at (202) 482-8184, or Scott McBride, Associate Deputy Chief Counsel, at (202) 482-6292.

SUPPLEMENTARY INFORMATION:

Correction

In the Federal Register of January 31, 2024 (89 FR 6011) in FR Document 2024-01475, on page 6016 in the first column, correct the amendment to § 356.9 to read:

1. In § 356.9, revise paragraph (g) to read as follows:

§ 356.9 [Corrected] Persons authorized to receive proprietary information.

* * * * *

(g) Every court reporter, interpreter, and translator employed in a panel or extraordinary challenge committee review, as well as individuals employed to provide audiovisual services at hearings, meetings, or other events as needed.

Dated: February 5, 2024.
Abdelali Elouaradia,
Deputy Assistant Secretary for Enforcement and Compliance.

[FR Doc. 2024-02899 Filed 2-14-24; 8:45 am]

BILLING CODE 3510-DS-P